DEPARTMENT OF ENERGY

Federal Energy Regulatory Commission

[Project Nos. 935-140; 2071-082; 2111-080; Project No. 2213-043]

PacifiCorp; Public Utility District No. 1 of Cowlitz County; Notice of Application Accepted for Filing and Soliciting Comments, Motions to Intervene, and Protests

Take notice that the following hydroelectric application has been filed with the Commission and is available for public inspection:

a. Type of Application: Non-capacity License Amendment.

b. Project Nos: 935-140, 2071-082, 2111-080, and 2213-043.

c. Date Filed: July 2, 2020.

d. Applicants: PacifiCorp, and Public Utility District No. 1 of Cowlitz County (licensees).

e. Name of Projects: Merwin Hydroelectric Project, Yale Hydroelectric Project, Swift No. 1 Hydroelectric Project, and Swift No. 2 Hydroelectric Project.

f. Location: The project is located on the Lewis River in Clark, Cowlitz, and Skamania Counties, Washington.

g. Filed Pursuant to: Federal Power Act, 16 U.S.C. 791(a)—825(r).

h. Applicant Contacts: PacifiCorp, Mr. Todd Olson, 825 NE Multnomah Street, Suite 1800, Portland, OR 97232; phone (503) 813-6657, todd.olson@pacificorp.com; Public Utility District No. 1 of Cowlitz County, Washington, Ms. Amanda Froberg, 961 12th Ave., Longview, WA 98632; phone (360) 501-9374, afroberg@cowlitzpud.org.

i. FERC Contact: Erich Gaedeke (503) 552-2716 or erich.gaedeke@ferc.gov.

j. Deadline for filing comments, motions to intervene, and protests: September 21, 2020.

The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street, NE, Washington, DC 20426. Submissions sent via any other carrier must be addressed to: Kimberly D. Bose, Secretary, Federal Energy Regulatory Commission, 12225 Wilkins Avenue, Rockville, MD 20852. The first page of any filing should include docket number P-935-140, P-2071-082, P-2111-080, and P-2213-043. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Description of Request: The licensees must provide fish passage facilities for each project as per fishway prescriptions issued by the National Marine Fisheries Service and U.S. Fish and Wildlife Service (Services) under Section 18 of the Federal Power Act, which are incorporated into their licenses. The licenses include provisions that allow the licensees to present new information to the Services regarding whether the construction of the fish passage facilities is appropriate. The licensees provided this information to the Services, who concurred and provided new fish passage determinations. As such, the licensees are requesting the following modifications: (1) Requiring PacifiCorp to implement an aquatic habitat restoration program in lieu of constructing fish passage facilities into and out of Merwin Reservoir; (2) delaying decisions regarding the appropriateness of constructing fish passage facilities into and out of the Yale Reservoir until 2031 and 2035; and (3) requiring PacifiCorp to construct the Yale Downstream, Yale Upstream, and Swift Upstream bull trout passage facilities. Additional areas potentially impacted by the proposed modifications include: the three Project reservoirs; the river reach below Merwin Dam; and river and creek reaches above Swift Reservoir. The licensees' applications provided additional detail on the proposed modifications and associated resource enhancement measures.

l. Locations of the Application: This filing may be viewed on the Commission's website at http://www.ferc.gov using the eLibrary link. Enter the docket number excluding the last three digits in the docket number field to access the document. You may also register online at http://www.ferc.gov/docs-filing/esubscription.asp to be notified via email of new filings and issuances related to this or other pending projects. For assistance, call (866) 208-3676 or email FERCOnlineSupport@ferc.gov, for TTY, call (202) 502-8659. A copy is also available for inspection and reproduction at the address in item (h) above. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title COMMENTS; PROTEST, or MOTION TO INTERVENE as applicable; (2) set forth in the heading the name of the applicant and the project number of the application to which the filing responds; (3) furnish the name, address, and telephone number of the person commenting, protesting or intervening; and (4) otherwise comply with the requirements of 18 CFR 385.2001 through 385.2005. All comments, motions to intervene, or protests, must set forth their evidentiary basis. Any filing made by an intervenor must be accompanied by proof of service on all persons listed in the service list prepared by the Commission in this proceeding, in accordance with 18 CFR 385.2010.

Dated: August 26, 2020.
Kimberly D. Bose,
Secretary.

[FR Doc. 2020-19253 Filed 8-31-20; 8:45 am]

BILLING CODE 6717-01-P